DEPARTMENT OF ENERGY

Office of Fossil Energy

Orders Granting and Vacating Authority to Import and Export Natural Gas; Avista Energy, Inc.; Reliant Energy Services, Inc.; Canada Imperial Oil Limited; Energy Trust Marketing Ltd.; Nstar Gas Company; Northeast Gas Markets Llcc; Middleton Energy Management Ltd.; Transcanada Pipelines Limited; Enbridge Gas Services (U.S.) Inc.; Tenaska Marketing Ventures; Yankee Gas Services Company; Dynegy Marketing And Trade; Jd Irving, Limited; Central Hudson Gas & Electric Corporation; National Fuel Marketing Company, Llc

[FE Docket No. 05-69-NG; 05-75-NG; 05-73-NG; 05-74-NG; 05-82-NG; 05-83-NG; 05-93-NG; 05-77-NG; 05-84-NG; 05-85-NG; 05-86-NG; 05-87-NG; 05-95-NG; 05-97-NG; 05-98-NG]

AGENCY: Office of Fossil Energy, DOE.

ACTION: Notice of Orders.

SUMMARY: The Office of Fossil Energy (FE) of the Department of Energy gives notice that during October 2005, it issued Orders granting authority to import and export natural gas. These Orders are summarized in the attached appendix and may be found on the FE Web site at http://www.fe.doe.gov (select gas regulation). They are also available for inspection and copying in the Office of Natural Gas Regulatory Activities, Docket Room 3E-033, Forrestal Building, 1000 Independence Avenue, SW., Washington, DC. 20585, (202) 586-9478. The Docket Room is open between the hours of 8 a.m. and 4:30 p.m., Monday through Friday, except Federal holidays.

Issued in Washington, DC, on December 5, 2005.
R.F. Corbin,
Manager, Natural Gas Regulation, Office of Natural Gas Regulatory Activities, Office of Fossil Energy.

Appendix

Orders Granting Import/Export Authorizations
[DOE/FE Authority]
Order No. | Date Issued | Importer/Exporter FE Docket No. | Import Volume | Export Volume | Comments
2133 | 10-11-05 | Avista Energy, Inc., 05-69-NG | 269 Bcf |  | Import natural gas from Canada, beginning on November 1, 2006, and extending through October 31, 2007.
2134 | 10-11-05 | Reliant Energy Services, Inc., 05-75-NG | 292 Bcf |  | Import and export a combined total of natural gas from and to Canada and Mexico, beginning on October 6, 2005, and extending through October 5, 2007.
2135 | 10-11-05 | Canada Imperial Oil Limited, 05-73-NG | 185 Bcf |  | Import and export a combined total of natural gas from and to Canada, beginning on November 13, 2005, and extending through November 12, 2007.
2136 | 10-20-05 | Energy Trust Marketing LTD., 05-74-NG | 3 Bcf |  | Import and export a combined total of natural gas from and to Canada, beginning on September 30, 2005, and extending through September 29, 2007.
2137 | 10-27-05 | Nstar Gas Company, 05-82-NG | 20 Bcf |  | Import and export a combined total of natural gas from and to Canada, beginning on November 1, 2005, and extending through October 31, 2007.
2138 | 10-27-05 | Northeast Gas Markets LLC, 05-83-NG | 400 Bcf |  | Import and export a combined total of natural gas from and to Canada, beginning on November 1, 2005, and extending through October 31, 2007.
2139 | 10-27-05 | Middleton Energy Management LTD., 05-93-NG | 10 Bcf |  | Import and export a combined total of natural gas from and to Canada, beginning on November 1, 2005, and extending through October 31, 2007.
2140 | 10-28-05 | TransCanada PipeLines Limited, 05-77-NG | 584 Bcf |  | Import and export a combined total of natural gas from and to Canada, beginning on November 1, 2005, and extending through October 31, 2007.
2141 | 10-28-05 | Enbridge Gas Services (U.S.) Inc., 05-84-NG | 400 Bcf |  | Import and export a combined total of natural gas from and to Canada, beginning on November 1, 2005, and extending through October 31, 2007.
2142 | 10-28-05 | Tenaska Marketing Ventures, 05-85-NG | 1,600 Bcf |  | Import and export a combined total of natural gas from and to Canada, beginning on December 1, 2005, and extending through November 30, 2007.
2143 | 10-28-95 | Yankee Gas Services Company, 05-86-NG | 25 Bcf |  | Import and export a combined total of natural gas from and to Canada, beginning on November 1, 2005, and extending through October 31, 2007.
2144 | 10-28-05 | Dynegy Marketing and Trade, 05-87-NG | 300 Bcf 300 Bcf | 165 Bcf 165 Bcf | Import and export natural gas from and to Canada and Mexico, beginning on October 31, 2005, and extending through October 30, 2007.
2145 | 10-28-05 | JD Irving, Limited, 05-95-NG | 15 Bcf |  | Import natural gas from Canada, beginning on November 1, 2005, and extending through October 31, 2007.
2146 | 10-28-05 | Central Hudson Gas & Electric Corporation, 05-97-NG | 8 Bcf |  | Import and export a combined total of natural gas from and to Canada, beginning on November 1, 2005, and extending through October 31, 2007.
2147 | 10-28-05 | Nation Fuel Marketing Company, LLC 05-98-NG | 73 Bcf |  | Import and export a combined total of natural gas from and to Canada, beginning on November 1, 2005, and extending through October 31, 2007.

[FR Doc. E5-7154 Filed 12-8-05; 8:45 am]

BILLING CODE 6450-01-P